DEPARTMENT OF ENERGY

Federal Energy Regulatory Commission

[Docket No. CP00-47-000]

Trans-Union Interstate Pipeline, L.P.; Notice of Intent To Prepare an Environmental Impact Statement for the Proposed Trans-Union Interstate Pipeline Project, Request for Comments on Environmental Issues, and Notice of Site Visit

February 4, 2000.

The staff of the Federal Energy Regulatory Commission (FERC or Commission) will prepare an environmental assessment (EA) that will discuss the environmental impacts of the Trans-Union Interstate Pipeline Project involving construction and operation of facilities by Trans-Union Interstate Pipeline, L.P. (Trans-Union) in Claiborne and Union Parishes, Louisiana and Union County, Arkansas.¹ These facilities would consist of about 41.7 miles of 30-inch-diameter pipeline, two mainline values, and launcher/receiver facilities at the beginning and end of the pipeline.

¹ Trans-Union's application was filed with the Commission on December 10, 1999, under Section 7 of the Natural Gas Act and Part 157 of the Commission's regulations.

If you are a landowner on Trans-Union's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by FERC entitled “An Interstate Natural Gas Facility on My Land? What Do I Need To Know?” was attached to the project notice Trans-Union provided to landowners. This fact sheet addresses a number of typically asked questions, including the use of eminent domain. It is available for viewing on the FERC Internet website (www.ferc.fed.us).

This Notice of Intent (NOI) is being sent to landowners along Trans-Union's proposed route; Federal, state, and local government agencies; elected officials; regional environmental, and public interest groups; Indian tribes that might attach religious and cultural significance to historic properties in the area of potential effects; local libraries and newspapers; and Commission's service list and parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated Trans-Union's proposal relative to their agencies' responsibilities. Agencies who would like to request cooperating status should follow the instructions for filing comments described below.

Summary of the Proposed Project

Trans-Union proposes to construct 41.7 miles of 30-inch-diameter pipeline to transport natural gas from the Sharon Hub in Claiborne Parish, Louisiana to the proposed nonjurisdictional electric power generation facility being developed by Union Power Partners (UPP) in Union County Arkansas. The pipeline would supply 430,000 decatherms per day of natural gas to UPP.

The general location of Trans-Union's proposed facilities is shown on the map attached as appendix 1.²

² The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction Of the Trans-Union's proposed facilities would affect about 538 acres of land. Following construction, about 186 acres would be retained as permanent right-of-way. The remaining 352 acres of temporary work space would be restored and allowed to revert to its former use.

Trans-Union proposes to use a pipeline construction right-of-way of 95 feet, including 50 feet which would become permanent right-or-way and 45 feet of temporary extra work space. There also would be about 22.4 acres used as additional temporary extra work spaces at stream, utility, and road crossings.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this NOI, the Commission requests public comments on the scope of the issues it will address in the EA. All comments received are considered during the preparation of the EA.

³ “Us,” “we,” and “our” refer to the environment staff of the FERC's Office of Pipeline Regulation.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues.

The EA will discuss impacts that could occur as a result of construction and operation of the proposed project. We have already indentified a number of issues that we think deserve attention based on a preliminary review of the proposed facilities and the environmental information provided by Trans-Union. This preliminary list of issues may be changed based on your comments and our analysis.

• Nonjurisdictional Facilities

—Gulf States Pipeline Company's proposal to construct 31.5 miles of 20-inch diameter pipeline in Claiborne County, Louisiana under Section 311(a)(2) of the Natural Gas Policy Act.

• Soils

—Crossing about 15.2 miles of soils having a poor revegetation potential.

—Crossing about 12.3 miles of erosion prone soils.

• Water Resources and Wetlands

—Crossing 32 perennial streams.

—Crossing 52 areas classified as wetlands.

• Biological Resources

—Impacts on about 360 acres of forest or woodlands.

—Impacts on the red-cockaded woodpecker, a Federally listed endangered species.

• Land Use

—Permanent loss of timber land as permanent maintained right-of-way.

• Alternatives

—Evaluate possible alternatives to the proposed project or portions of the project, and make recommendations on how to lessen or avoid impacts on the various resource areas.

Public Participation and Site Visit

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send two copies of your letter to: David P. Boergers, Secretary, Federal Energy Regulatory Commission, 888 First St., N.E., Room 1A, Washington, DC 20426;

• Label one copy of the comments for the attention of the Environmental Review and Compliance Branch, PR-11.1;

• Reference Docket No. CP00-47-000; and

• Mail your comments so that they will be received in Washington, DC on or before March 6, 2000.

[If you do not want to send comments at this time but still want to remain on our mailing list, please return the Information Request (appendix 3). If you do not return the Information Request, you may be removed from the environmental mailing list.]

On March 9, 2000, the Office of Energy Projects staff will conduct a precertification site visit of the project route and possible reroutes. All parties may attend. Those planning to attend must provide their own transportation.

For further information on attending the site visit, please contact Paul McKee at (202) 208-1088.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket # from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-3045 Filed 2-9-00; 8:45 am]

BILLING CODE 6717-01-M